DEPARTMENT OF EDUCATION

[CFDA No. 84.256]

Freely-Associated States Educational Grant Programs

AGENCY: Department of Education.

ACTION: Freely-Associated States Educational Grant Program; Notice inviting applications for new awards for fiscal year (FY) 2001.

Purpose of the Program: The program provides financial assistance for educational purposes to local educational agencies (LEAs) in the Federated States of Micronesia (FSM), the Republic of the Marshall Islands (RMI), and the Republic of Palau (RP).

Deadline for Transmittal of Applications: November 15, 2000.

Deadline for Intergovernmental Review: January 15, 2001.

Applications Available: September 13, 2000.

Eligible Applicants: LEAs in the FSM, RMI and the RP only.

Available Funds: $4,750,000.00.

Estimated Range of Awards: $700,000-$800,000.

Estimated Average Size of Awards: $750,000.

Estimated Number of Awards: six (6).

Note: The Department is not bound by any estimates in this notice.

Project Period: Up to 36 months.

Applicable Regulations: The Education Department General Administrative Regulations (EDGAR) in 34 CFR parts 75, 77, 79, 80, 81, 82, 85, 86, 97, 98, and 99.

Selection Criteria: The Secretary will use the following selection criteria in accordance with 34 CFR 75.209-75.210 to evaluate applications under this competition. In accordance with 20 U.S.C. 6331(b)(2), the Pacific Resources for Education and Learning (PREL) uses these criteria in making funding recommendations to the Secretary.

(a) Need for Project. (25 points)

(1) The Secretary considers the need for the proposed project.

(2) In determining the need for the proposed project, the Secretary considers the following factors:

(i) The magnitude or severity of the problem to be addressed by the proposed project.

(ii) The magnitude of the need for the services to be provided or the activities to be carried out by the proposed project.

(iii) The extent to which the proposed project will provide services or otherwise address the needs of students at risk of educational failure.

(iv) The extent to which the proposed project will focus on serving or otherwise addressing the needs of disadvantaged individuals.

(b) Significance. (10 points)

(1) The Secretary considers the significance of the proposed project.

(2) In determining the significance of the proposed project, the Secretary considers the following factors:

(i) The significance of the proposed project to education in the area to be served.

(ii) The significance of the problem or issue to be addressed by the proposed project.

(iii) The importance or magnitude of the results or outcomes likely to be attained by the proposed project, especially improvements in teaching and student achievement.

(c) Quality of the Project Design. (25 points)

(1) The Secretary considers the quality of the design of the proposed project.

(2) In determining the quality of the design of the proposed project, the Secretary considers the following factors:

(i) The extent to which the goals, objectives and outcomes to be achieved by the proposed project are clearly specified and measurable.

(ii) The extent to which the design of the proposed project is appropriate to, and will successfully address, the needs of the target population or other identified needs.

(iii) The extent to which the proposed project will be coordinated with similar or related efforts, and with other appropriate community, State, and Federal resources.

(iv) The extent to which the proposed project is part of a comprehensive effort to improve teaching and learning and support rigorous academic standards for students.

(v) The extent to which the proposed project encourages parental involvement.

(vi) The extent to which performance feedback and continuous improvement are integral to the design of the proposed project.

(d) Adequacy of Resources. (5 points)

(1) The Secretary considers the adequacy of resources for the proposed project.

(2) In determining the adequacy of resources for the proposed project, the Secretary considers one or more of the following factors:

(i) The extent to which the budget is adequate to support the proposed project.

(ii) The extent to which the costs are reasonable in relation to the objectives, design, and potential significance of the proposed project.

(iii) The extent to which the costs are reasonable in relation to the number of persons to be served and to the anticipated results and benefits.

(e) Quality of project personnel. (10 points)

(1) The Secretary considers the quality of the project personnel who will carry out the proposed project.

(2) In determining the quality of the personnel, the Secretary considers the extent to which the applicant encourages applications for employment from persons who are members of groups that have traditionally been underrepresented based on race, color, national origin, gender, age, or disability,

(3) In addition, the Secretary considers the following factors:

(i) The qualifications, including relevant training and experience, of the project director or principal investigator.

(ii) The qualifications, including relevant training and experience, of key project personnel.

(iii) The qualifications, including relevant training and experience, of project consultants or subcontractors.

(f) Quality of the project evaluation. (15 points)

(1) The Secretary considers quality of the evaluation to be conducted of the proposed project.

(2) In determining the quality of the evaluation, the Secretary considers the following factors:

(i) The extent to which the methods of evaluation provide for examining the effectiveness of project implementation strategies.

(ii) The extent to which the methods of evaluation include the use of objective performance measures that are clearly related to the intended outcomes of the project and will produce quantitative and qualitative data to the extent possible.

(g) Quality of project services. (10 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age or disability.

(3) In addition, the Secretary considers the following factors:

(i) The extent to which the services to be provided by the proposed project are appropriate to the needs of the intended recipients or beneficiaries of those services.

(ii) The likely impact of the services to be provided by the proposed project on the intended recipients of those services.

(iii) The extent to which the training or professional development services to be provided by the proposed project are of sufficient quality, intensity and duration to lead to improvements in practice among the recipients of those services.

(iv) The extent to which the services to be provided by the proposed project are focused on those with greatest needs.

For Applications Contact: Valerie Rogers, U. S. Department of Education, 400 Maryland Avenue, SW, Room 3E245, Washington, D.C. 20202-6140. Telephone (202) 260-2543.

If you use a telecommunications device for the deaf (TDD), you may call the Federal Information Relay Service (FIRS) at 1-888-877-8339.

Individuals with disabilities may obtain this document in an alternative format, (e.g., Braille, large print, audiotape, or computer diskette) on request to the contact person listed in this section.

Individuals with disabilities also may obtain a copy of the application package in alternative format, by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the previous sites. If you have questions about using the PDF, call the U.S. Government Printing Office (GPO), toll free at 1-888-293-6498; or in Washington, DC, area at (202) 512-1530.

Note: The official version of this document is the document published in the Federal Register. Free Internet access to the official edition of the Federal Register and the Code of Federal Regulations is available on GPO Access at: http://www.access.gpo.gov/nara/index.html

Program Authority: 20 U.S.C. 6331(b)(2).

Dated: September 11, 2000.
Michael Cohen,
Assistant Secretary for Elementary and Secondary Education.

[FR Doc. 00-23618 Filed 9-14-00; 8:45 am]

BILLING CODE 4000-01-P